DEPARTMENT OF HEALTH AND HUMAN SERVICES

National Toxicology Program (NTP); NTP Interagency Center for the Evaluation of Alternative Toxicological Methods (NICEATM): Availability of the Biennial Progress Report of the Interagency Coordinating Committee on the Validation of Alternative Methods (ICCVAM)

AGENCY: National Institute of Environmental Health Sciences (NIEHS), National Institutes of Health (NIH) .

ACTION: Availability of the ICCVAM Biennial Progress Report.

SUMMARY: NICEATM announces the availability of the Biennial Progress Report 2008-2009: Interagency Coordinating Committee on the Validation of Alternative Methods. In accordance with requirements of the ICCVAM Authorization Act of 2000 (Pub. L. 106-545, 42 U.S.C. 285l-3(e)(7)), this report describes progress and activities during 2008-2009 by ICCVAM and NICEATM. The report is available on the NICEATM-ICCVAM Web site at http://iccvam.niehs.nih.gov/about/ICCVAMrpts.htm. Copies can also be requested from NICEATM at the address given below.

ADDRESSES: Requests for copies of the report should be sent by mail, fax, or e-mail to Dr. William S. Stokes, NICEATM Director, NIEHS, P.O. Box 12233, MD K2-16, Research Triangle Park, NC, 27709, (phone) 919-541-2384, (fax) 919-541-0947, (e-mail) niceatm@niehs.nih.gov.

FOR FURTHER INFORMATION CONTACT: Dr. William S. Stokes, NICEATM Director (phone 919-541-2384 or niceatm@niehs.nih.gov).

SUPPLEMENTARY INFORMATION:

Background Information on ICCVAM and NICEATM

ICCVAM is an interagency committee composed of representatives from 15 U.S. Federal regulatory and research agencies that require, use, or generate toxicological information. ICCVAM conducts technical evaluations of new, revised, and alternative methods with regulatory applicability, and promotes the scientific validation and regulatory acceptance of toxicological test methods that more accurately assess the safety and health hazards of chemicals and products and that refine (less pain and distress), reduce, or replace animal use. The ICCVAM Authorization Act of 2000 (42 U.S.C. 2851-3(a), available at http://iccvam.niehs.nih.gov/about/PL106545.htm) established ICCVAM as a permanent interagency committee of the NIEHS under NICEATM. NICEATM administers ICCVAM, provides scientific and operational support for ICCVAM-related activities, and coordinates international validation studies. NICEATM and ICCVAM work collaboratively to evaluate new and improved test methods applicable to the needs of U.S. Federal agencies. Additional information about ICCVAM and NICEATM, guidelines for nomination of test methods for validation studies, and guidelines for submission of test methods to ICCVAM for evaluation are available at http://iccvam.niehs.nih.gov.

Dated: June 3, 2010.
John R. Bucher,
Associate Director, National Toxicology Program.

[FR Doc. 2010-13952 Filed 6-9-10; 8:45 am]

BILLING CODE 4140-01-P